DEPARTMENT OF TRANSPORTATION

Federal Aviation Administration

Twelfth Meeting: RTCA NextGen Advisory Committee (NAC)

AGENCY: Federal Aviation Administration (FAA), Department of Transportation (DOT).

ACTION: Thirteenth Meeting Notice of RTCA NextGen Advisory Committee.

SUMMARY: The FAA is issuing this notice to advise the public of the thirteenth meeting of the RTCA NextGen Advisory Committee.

DATES: The meeting will be held October 8, 2014 from 9:00 a.m.-3:00 p.m.

ADDRESSES: The meeting will be held at RTCA Headquarters, 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org. Andy Cebula, NAC Secretary can also be contacted at acebula@rtca.org or 202-330-0652.

SUPPLEMENTARY INFORMATION: Pursuant to section 10(a)(2) of the Federal Advisory Committee Act (Pub. L. 92-463, 5 U.S.C., App.), notice is hereby given for a meeting of Special Committee 224. The agenda will include the following:

October 8

• Opening of Meeting/Introduction of NAC Members—Chairman Bill Ayer, Airlines for America

• Official Statement of Designated Federal Official—The Honorable Mike Whitaker, FAA Deputy Administrator

• Review and Approval of June 3, 2014 Meeting Summary

• Chairman's Report—Chairman Ayer

• FAA Report—Mr. Whitaker

• Review and Approve Recommendation for Submission to FAA

○ PBN Blue Print Task Group Report

○ Presentation of recommendation: The Blue Print for Performance-Based Navigation Procedures Implementation

• FAA PBN Video

○ PBN initiatives, highlighting the Houston Metroplex

• NextGen Integration Working Group (NIWG) FAA and Industry Leaders Overview

○ Discussion of NextGen Integration WG and Future Actions

• Review and Approve Recommendation for Submission to FAA

○ NIWG Individual Team Report-Outs: PBN, Data Comm, Multiple Runway Operations and Surface

• Interactive Discussion of Relevant Issues Facing the Aviation Community

• Summary of meeting and next steps

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2014.
Mohannad Dawoud,
Management Analyst, NextGen, Business Operations Group Federal Aviation Administration.

[FR Doc. 2014-20821 Filed 8-29-14; 8:45 am]

BILLING CODE 4910-13-P